DEPARTMENT OF TRANSPORTATION

Federal Aviation Administration

14 CFR Part 71

[Docket No. FAA-2003-16291; Airspace Docket No. 03-AEA-08]

Modification of Class E Airspace; York, PA; Correction

AGENCY: Federal Aviation Administration (FAA), DOT.

ACTION: Final rule; correction.

SUMMARY: This action corrects an error in the geographic coordinates in the description of the York County, PA Class E-2 designated airspace that was published in Federal Aviation Administration Order 7400.9L, Airspace Designations and Reporting Points, dated September 2, 2003 and effective September 16, 2003.

EFFECTIVE DATE: 0901 UTC, February 19, 2004.

FOR FURTHER INFORMATION CONTACT: Mr. Francis T. Jordan, Airspace Specialist, Airspace Branch, AEA-520, Air Traffic Division, Eastern Region, Federal Aviation Administration, 1 Aviation Plaza, Jamaica, New York 11434-4809, telephone: (718) 553-4521.

SUPPLEMENTARY INFORMATION:

History

Airspace Docket No. 99-AEA-09, published in the Federal Register on October 26, 1999 (64 FR 57557-57558), established the Class E-2 airspace area at York Airport, York County, PA. The description of the airspace incorporated the geographic reference point (GRP) for the airport. The designation was subsequently published in Federal Aviation Administration Order 7400.9L, Airspace Designations and Reporting Points, dated September 2, 2003, and effective September 16, 2003, which is incorporated by reference in 14 CFR 71.1.

Need for Correction

The final rule described the geographic position of the airport with a GRP. Other airspace designations for the airport incorporate the airport reference point (ARP) in the descriptions. This action deletes the GRP and incorporates the ARP for the airport in the description of the Class E-2 airspace designation.

List of Subjects in 14 CFR Part 71

Airspace, Incorporation by reference, Navigation (air).

Accordingly, pursuant to the authority delegated to me, 14 CFR part 71 is corrected by making the following amendment:

PART 71—[CORRECTED]

1. The authority citation for part 71 continues to read as follows:

Authority: 49 U.S.C. 106(g); 40103, 40113, 40120; E.O. 10854, 24 FR 9565, 3 CFR 1959-1963 Comp., p 389.

§ 71.1 [Corrected]

2. The incorporation by reference in 14 CFR 71.1 of the Federal Aviation Administration Order 7400.9L, Airspace Designations and Reporting Points, dated September 2, 2003 and effective September 16, 2003, is corrected as follows:

Paragraph 6002 Class E Airspace Areas extending upward from the surface

* * * * *

AEA PA E2 York County, PA [CORRECTED]

York Airport, PA

(Lat. 39°55′01″ N., long. 76°52′23″ W.)

That airspace extending upward from the surface within a 6.5-mile radius of the York Airport.

* * * * *

Issued in Jamaica, New York on, December 8, 2003.
John McCartney,
Assistant Manager, Air Traffic Division, Eastern Region.

[FR Doc. 03-31029 Filed 12-16-03; 8:45 am]

BILLING CODE 4910-13-M